DEPARTMENT OF THE INTERIOR

Bureau of Land Management

[LLMTB010-L16100000-DQ0000]

Notice of Availability of the Missoula Proposed Resource Management Plan and Associated Final Environmental Impact Statement, Montana

AGENCY: Bureau of Land Management, Interior.

ACTION: Notice of availability.

SUMMARY: In accordance with the National Environmental Policy Act of 1969 (NEPA), as amended, and the Federal Land Policy and Management Act of 1976 (FLPMA), as amended, the Bureau of Land Management (BLM) Missoula Field Office has prepared a Proposed Resource Management Plan (RMP) with an associated Final Environmental Impact Statement (EIS) for BLM public lands and resources managed by the Missoula Field Office, and by this notice is announcing the opening of the protest period.

DATES: BLM planning regulations state that any person who meets the conditions as described in the regulations may protest the BLM's Proposed RMP. To ensure that protests will be considered, the BLM must receive any protests on the Proposed RMP on or before the 30th day following the date the Environmental Protection Agency publishes its Notice of Availability of the Final EIS in the Federal Register.

ADDRESSES: Copies of the Proposed RMP and Final EIS are available at the Missoula Field Office, 3255 Fort Missoula Road, Missoula, MT 59804, or may be viewed online at: https://go.usa.gov/xmyyG.

All protests on the Proposed RMP must be in writing and submitted by any of the following methods:

Website: https://go.usa.gov/xmyyG.

Regular Mail: BLM Director (210), Attention: Protest Coordinator, P.O. Box 71383, Washington, DC 20024-1383.

Overnight Delivery: BLM Director (210), Attention: Protest Coordinator, 20 M Street SE, Room 2134LM, Washington, DC 20003.

FOR FURTHER INFORMATION CONTACT: Maggie Ward, RMP Project Manager, Missoula Field Office, telephone: (406) 329-3914, and at the mailing address and website listed earlier. Persons who use a telecommunications device for the deaf (TDD) may call the Federal Relay Service (FRS) at 1-800-877-8339 to contact Ms. Ward during normal business hours. The FRS is available 24 hours a day, 7 days a week, to leave a message or question. You will receive a reply during normal business hours.

SUPPLEMENTARY INFORMATION: The Missoula Proposed RMP provides a single, comprehensive land use plan that guides management of BLM lands on approximately 163,000 acres of BLM-managed public lands and 267,000 acres of Federal mineral estate in western Montana in Flathead, Granite, Lake, Lincoln, Mineral, Missoula, Powell, Ravalli, and Sanders counties. Over 99 percent of the BLM-managed public lands are in Granite, Missoula and Powell counties. The planning area is currently managed under the Garnet Resource Area RMP (1986). This planning effort would update management guidance from the Garnet Resource Area RMP, as amended, and create a new Missoula RMP.

The Proposed RMP/Final EIS evaluates three alternatives in detail. Alternative A is the No Action Alternative, which is a continuation of current management in the existing Garnet Resource Area RMP (1986).

The agency Proposed Plan alternative is Alternative B, with a few modifications, including the addition of three Backcountry Conservation Areas (BCAs) and one Research Natural Area (RNA). Alternative B focuses on active forest management and allows for the broadest range of management tools to provide forest products and meet forest management objectives. Alternative B provides for moving forest vegetative communities to the natural range of variability to provide for priority wildlife habitat and sustainable forest products at a greater rate with increased forest treatments. Alternative B allows more lands to be available for livestock grazing as a management tool. The Proposed Plan focuses on recreation opportunities, including some Special Recreation Management Areas and Backcountry Conservation Areas.

Alternative C emphasizes priority areas for wildlife habitat and vegetation, while allowing for modest development of forest resources. Alternative C aims to move forested ecosystems towards the natural range of variability with an emphasis on natural processes and less active management (lower amounts of forest treatments). Alternative C focuses on wildlife-dependent recreation.

The Missoula Draft RMP/Draft EIS public comment period began on May 17, 2019, and ended on August 15, 2019. The BLM held one public open house meeting in Missoula, Montana, during the public comment period on the Draft RMP/Draft EIS. The BLM considered and incorporated in the proposed plan, as appropriate, comments received from the public, cooperating agencies and internal BLM review.

Before including your address, phone number, email address, or other personal identifying information in your protest, you should be aware that your entire protest—including your personal identifying information—may be made publicly available at any time. While you can ask us in your protest to withhold your personal identifying information from public review, we cannot guarantee that we will be able to do so.

(Authority: 40 CFR 1506.6 and 43 CFR 1610.2)

John Mehlhoff,
State Director.

[FR Doc. 2020-02880 Filed 2-13-20; 8:45 am]

BILLING CODE 4310-DN-P